DEPARTMENT OF AGRICULTURE

Natural Resources Conservation Service

[Docket No. NRCS-2018-0008]

Notice of Availability of the Alabama Trustee Implementation Group Final Restoration Plan II and Environmental Assessment: Restoration of Wetlands, Coastal, and Nearshore Habitats; Habitat Projects on Federally Managed Lands; Nutrient Reduction (Nonpoint Source); Sea Turtles; Marine Mammals; Birds; and Oysters and Finding of No Significant Impact

AGENCY: Natural Resources Conservation Service (NRCS), U.S. Department of Agriculture.

ACTION: Notice of Availability of the Alabama Trustee Implementation Group Final Restoration Plan II and Environmental Assessment: Restoration of Wetlands, Coastal, and Nearshore Habitats; Habitat Projects on Federally Managed Lands; Nutrient Reduction (Nonpoint Source); Sea Turtles; Marine Mammals; Birds; and Oysters and Finding of No Significant Impact.

SUMMARY: In accordance with the Oil Pollution Act of 1990 (OPA) and the National Environmental Policy Act (NEPA), the Deepwater Horizon Federal and State natural resource trustee agencies for the Alabama Trustee Implementation Group (AL TIG) have prepared a Final Restoration Plan II and Environmental Assessment (Final RP II/EA) and Finding of No Significant Impact (FONSI). The Final RP II/EA describes the restoration project alternatives considered by the AL TIG to meet the Trustees' goals to restore and conserve habitat, replenish and protect living coastal and marine resources, restore water quality, and provide for monitoring and adaptive management. The AL TIG evaluated these alternatives under criteria set forth in the OPA natural resource damage assessment (NRDA) regulations and evaluated the environmental consequences of the restoration alternatives in accordance with NEPA.

Monitoring and adaptive management activities to address information gaps necessary to inform future restoration are included in this Final RP II/EA. The purpose of this notice is to inform the public of the availability of the Final RP II/EA and FONSI.

ADDRESSES: Obtaining Documents: You may download the Final RP II/EA and FONSI at http://www.gulfspillrestoration.noaa.gov. Alternatively, you may request a CD of the Final RP II/EA and FONSI (see FOR FURTHER INFORMATION CONTACT). Also, you may view the document at any of the public facilities listed at http://www.gulfspillrestoration.noaa.gov.

FOR FURTHER INFORMATION CONTACT:

• USDA—Ronald Howard, ron.howard@ms.usda.gov.

• State of Alabama—Amy Hunter, amy.hunter@dcnr.alabama.gov.

SUPPLEMENTARY INFORMATION:

Introduction

On April 20, 2010, the mobile offshore drilling unit Deepwater Horizon, which was being used to drill a well for British Petroleum (BP) Exploration and Production Inc. in the Macondo prospect (Mississippi Canyon 252-MC252), exploded, caught fire, and subsequently sank in the Gulf of Mexico, resulting in an unprecedented volume of oil and other discharges from the rig and from the wellhead on the seabed. The Deepwater Horizon oil spill is the largest oil spill in United States (U.S.) history, discharging millions of barrels of oil over a period of 87 days. In addition, well over one million gallons of dispersants were applied to the waters of the spill area in an attempt to disperse the spilled oil. Also, an undetermined amount of natural gas was released to the environment as a result of the spill.

The Deepwater Horizon State and Federal natural resource trustees (DWH Trustees) conducted an NRDA for the Deepwater Horizon oil spill under OPA (33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior, as represented by the National Park Service, U.S. Fish and Wildlife Service and Bureau of Land Management;

• National Oceanic and Atmospheric Administration, on behalf of the U.S. Department of Commerce;

• U.S. Department of Agriculture;

• U.S. Environmental Protection Agency;

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• For the State of Texas, Texas Parks and Wildlife Department, Texas General Land Office, and Texas Commission on Environmental Quality.

Upon completion of NRDA, the DWH Trustees reached and finalized a settlement of their natural resource damage claims with BP in a Consent Decree ¹ approved by the U.S. District Court for the Eastern District of Louisiana. Pursuant to that Consent Decree, restoration projects in Alabama are now chosen and managed by AL TIG. AL TIG is composed of the following Trustees:

¹ https://www.justice.gov/enrd/file/838066/download.

• U.S. Department of the Interior;

• National Oceanic and Atmospheric Administration, on behalf of the U.S. Department of Commerce;

• U.S. Department of Agriculture;

• U.S. Environmental Protection Agency;

• State of Alabama Department of Conservation and Natural Resources; and

• Geological Survey of Alabama.

This restoration planning activity is proceeding in accordance with the Deepwater Horizon Oil Spill: Final Programmatic Damage Assessment and Restoration Plan and Final Programmatic Environmental Impact Statement (PDARP/PEIS). Restoration types evaluated in the Final RP II/EA include: Wetlands, Coastal, and Nearshore Habitats; Habitat Projects on Federally Managed Lands; Nutrient Reduction (Nonpoint Source); Sea Turtles; Marine Mammals; Birds; and Oysters. Information on the restoration types evaluated in the Final RP II/EA, as well as the OPA criteria against which project ideas are being evaluated, can be viewed in the PDARP/PEIS (http://www.gulfspillrestoration.noaa.gov/restoration-planning/gulf-plan) and in the Overview of the PDARP/PEIS (http://www.gulfspillrestoration.noaa.gov/restoration-planning/gulf-plan).

Background

In December 2016, as part of its restoration planning efforts, AL TIG asked the public for project ideas that could benefit Wetlands, Coastal, and Nearshore Habitats; Habitat Projects on Federally Managed Lands; Nutrient Reduction (Nonpoint Source); Sea Turtles; Marine Mammals; Birds; and/or Oysters in the Alabama Restoration Area. The project submissions received through this process, along with projects previously submitted during prior restoration planning processes, resulted in the alternatives evaluated in the Draft RP II/EA.

Notice of availability of the Draft RP II/EA was published in the Federal Register on April 5, 2018 (83 FR 14623). The Draft RP II/EA provided the Alabama TIG's analysis of alternatives that would meet the Trustees' goals to restore and conserve habitat, replenish and protect living coastal and marine resources, restore water quality, and provide for monitoring and adaptive management under OPA and NEPA, and identified the alternatives that were proposed as preferred for implementation. AL TIG provided the public with 30 days to review and comment on the Draft RP II/EA. AL TIG also held a public meeting in Spanish Fort, Alabama to facilitate public understanding of the document and provide opportunity for public comment. AL TIG actively solicited public input through a variety of mechanisms, including convening a public meeting, distributing electronic communications, and using the Trustee-wide public website and database to share information and receive public input. AL TIG considered the public comments received, which informed the AL TIG's analysis of alternatives in the Final RP II/EA. A summary of the public comments received and the Alabama TIG's responses to those comments are addressed in Chapter 16 of the Final RP II/EA, and all correspondence received are provided Appendix A.

Overview of the Final RP II/EA

The Final RP II/EA is being released in accordance with the OPA, the NRDA regulations at 15 CFR part 990, and the NEPA (42 U.S.C. 4321 et seq.).

In the Final RP II/EA and FONSI, the AL TIG identified 20 preferred alternatives to be fully funded from restoration type funds, one preferred alternative to be partially funded from restoration type funds and partially funded from the AL TIG's Monitoring and Adaptive Management (MAM) allocation, and one activity to be fully funded using MAM funds. Specifically, the AL TIG selected the following projects as preferred alternatives:

Five Projects Within the Wetlands, Coastal, and Nearshore Habitats Restoration Type

• Magnolia River Land Acquisition (Holmes Tract)

• Weeks Bay Land Acquisition East (Gateway Tract)

• Weeks Bay Land Acquisition (Harrod Tract)

• Lower Perdido Islands Restoration Phase I (Engineering & Design (E&D))

• Southwest Coffee Island Habitat Restoration Project—Phase I (also evaluated and selected for funding under the Birds Restoration Type) (E&D)

Two Projects Within the Habitat Projects on Federally Managed Lands Restoration Type

• Little Lagoon Living Shorelines

• Restoring the Night Sky—Assessment, Training, and Outreach (also evaluated under the Sea Turtles Restoration Type and selected for funding under the Monitoring and Adaptive Management Allocation) (E&D)

Three Projects Within the Nutrient Reduction (Nonpoint Source) Restoration Type

• Toulmins Springs Branch E&D (E&D)

• Fowl River Nutrient Reduction

• Weeks Bay Nutrient Reduction

Four Projects Within the Sea Turtles Restoration Type

• Coastal Alabama Sea Turtle (CAST) Conservation Program—“Share the Beach”

• CAST Triage

• CAST Habitat Usage and Population Dynamics

• CAST Protection: Enhancement and Education

Two Projects Within the Marine Mammals Restoration Type

• Enhancing Capacity for the Alabama Marine Mammal Stranding Network

• Alabama Estuarine Bottlenose Dolphin Protection: Enhancement and Education

Two Projects Within the Birds Restoration Type

• Southwestern Coffee Island Habitat Restoration Project—Phase I (also evaluated and selected for funding under the Wetlands, Coastal, and Nearshore Habitats Restoration Type) (E&D)

• Colonial Nesting Wading Bird Tracking and Habitat Use Assessment—Two Species

Four Projects Within the Oysters Restoration Type

• Oyster Cultch Relief and Reef Configuration

• Side-scan Mapping of Mobile Bay Relic Oyster Reefs (E&D)

• Oyster Hatchery at Claude Peteet Mariculture Center—High Spat Production with Study

• Oyster Grow-Out and Restoration Reef Placement

Two activities are proposed for funding, in whole or in part, with AL TIG's Monitoring and Adaptive Management Allocation:

• Assessment of Alabama Estuarine Bottlenose Dolphin Populations and Health

• Restoring the Night Sky—Assessment, Training, and Outreach (also evaluated and selected for funding under the Habitats on Federally Managed Lands Restoration Type) (E&D)

The Final RP II/EA also evaluates No Action Alternatives for each of the restoration types. AL TIG has determined that the restoration projects and monitoring and adaptive management activities proposed for funding are appropriate to partially compensate for the injuries for these restoration types described in PDARP/PEIS. In the Final RP II/EA, the Alabama TIG presents to the public its plan for providing partial compensation to the public for natural resources and ecological services injured or lost in Alabama as a result of the Deepwater Horizon Oil Spill. The projects described in the Final RP II/EA are most appropriate for addressing injuries to: Wetlands, Coastal and Nearshore Habitats; Habitat Projects on Federally Managed Lands; Nutrient Reduction (Nonpoint Source); Sea Turtles; Marine Mammals; Birds; and Oysters. The monitoring and adaptive management activities preferred for funding in the Final RP II/EA will also assist AL TIG in tracking project success and will inform and enhance future restoration planning. In accordance with NEPA, and as part of the Final RP II/EA, the Trustees issued a FONSI. The FONSI is available in Appendix J of the Final RP II/EA.

Administrative Record

The DWH Trustees opened a publicly available Administrative Record for the NRDA for the Deepwater Horizon oil spill, including restoration planning activities, concurrently with publication of the 2011 Notice of Intent to Begin Restoration Scoping and Prepare a Gulf Spill Restoration Planning PEIS (pursuant to 15 CFR 990.45). The Administrative Record includes the relevant administrative records since its date of inception. This Administrative Record is actively maintained and available for public review. The documents included in the Administrative Record can be viewed electronically at the following location: http://www.doi.gov/deepwaterhorizon/adminrecord.

Authority

The authority of this action is the OPA (33 U.S.C. 2701 et seq.), the implementing NRDA regulations at 15 CFR part 990, and the NEPA (42 U.S.C. 4321 et seq.).

Signed in Washington, DC, on August 27, 2018.
Leonard Jordan,
Acting Chief, Natural Resources Conservation Service.

[FR Doc. 2018-20168 Filed 9-17-18; 8:45 am]

BILLING CODE 3410-16-P